DEPARTMENT OF LABOR

Employment and Training Administration

[TA-W-73,210; TA-W-73,210A]

Metlife Technology, Operations, and Information Technology Groups Including On-Site Leased Workers From Adecco, Cognizant, IBM, Infosys, Kana, Patni, Siemens, Tapfin, Veritas Moosic, PA, Metlife Technology, Operations, and Information Technology Groups Including On-Site Leased Workers From At&T Solutions, Chimes, Cognizant, Patni, Siemens, Xerox Clarks Summit, PA; Notice of Revised Determination on Reconsideration

By application dated August 2, 2010 petitioners requested administrative reconsideration of the Department's negative determination regarding the eligibility of workers and former workers of MetLife, Technology, Operations, and Information Technology Groups, Moosic, Pennsylvania (TA-W-73,210) and MetLife, Technology, Operations, and Information Technology Groups, Clarks Summit, Pennsylvania (TA-W-73,210A), to apply for Trade Adjustment Assistance (TAA). On August 13, 2010, the Department issued a Notice of Affirmative Determination Regarding Application for Reconsideration. The Department's Notice will soon be published in the Federal Register.

Workers at the subject facilities are engaged in employment related to the supply of software testing and quality assurance services, and are not separately identifiable by service supplied.

Based on the information obtained during the reconsideration investigation, the Department determines that the subject firm shifted to a foreign country a significant proportion of the services like or directly competitive with those provided by the Technology, Operations, and Information Technology Groups at the Moosic, Pennsylvania facility, including on-site leased workers (TA-W-73,210) and the Clarks Summit, Pennsylvania facility, including on-site leased workers (TA-W-73,210A), and that the shift to India contributed importantly to worker separations at the Technology, Operations, and Information Technology Groups at the aforementioned facilities.

Conclusion

After careful review of the additional facts obtained during the reconsideration investigation, I determine that workers of MetLife, Technology, Operations, and Information Technology Groups, Moosic, Pennsylvania, including on-site leased workers (TA-W-73,210) and MetLife, Technology, Operations, and Information Technology Groups, Clarks Summit, Pennsylvania, including on-site leased workers (TA-W-73,210A), who are engaged in employment related to the supply of software testing and quality assurance services, meet the worker group certification criteria under Section 222(a) of the Act, 19 U.S.C. 2272(a). In accordance with Section 223 of the Act, 19 U.S.C. 2273, I make the following certification:

All workers of MetLife, Technology, Operations, and Information Technology Groups, including on-site leased workers from Adecco, Cognizant, IBM, InfoSys, Kana, Patni, Siemens, Tapfin, and Veritas, Moosic, Pennsylvania (TA-W-73,210) and MetLife, Technology, Operations, and Information Technology Groups, including on-site leased workers from AT&T Solutions, Chimes, Cognizant, Patni, Siemens, and Xerox, Clarks Summit, Pennsylvania (TA-W-73,210A), who became totally or partially separated from employment on or after January 4, 2009, through two years from the date of this revised certification, and all workers in the group threatened with total or partial separation from employment on date of certification through two years from the date of certification, are eligible to apply for adjustment assistance under Chapter 2 of Title II of the Trade Act of 1974, as amended.

Signed in Washington, DC, this 10th day of November, 2010.
Del Min Amy Chen,
Certifying Officer, Office of Trade Adjustment Assistance.

[FR Doc. 2010-29429 Filed 11-22-10; 8:45 am]

BILLING CODE 4510-FN-P